DEPARTMENT OF HOMELAND SECURITY

U.S. Citizenship and Immigration Services

[CIS No. 2641-19; DHS Docket No. USCIS-2018-0005]

RIN 1615-ZB78

Continuation of Documentation for Beneficiaries of Temporary Protected Status Designations for Nepal and Honduras

AGENCY: U.S. Citizenship and Immigration Services, Department of Homeland Security.

ACTION: Notice.

SUMMARY: Through this Notice, the Department of Homeland Security (DHS) announces actions to ensure its compliance with the order of the U.S. District Court for the Northern District of California to stay proceedings in Bhattarai v. Nielsen, No. 19-cv-00731 (N.D. Cal. Mar. 12, 2019) (“order to stay proceedings”). The claims raised in Bhattarai v. Nielsen are similar to, and will be informed by the resolution of, the claims being litigated before the Ninth Circuit Court of Appeals in Ramos v. Nielsen, No. 18-16981 (9th Cir. filed Oct. 12, 2018). For that reason, DHS will not implement or enforce the decision to terminate Temporary Protected Status (TPS) for Honduras or Nepal pending the resolution of the Ramos v. Nielsen appeal, or by other order of the court. Beneficiaries under the TPS designations for Nepal and Honduras will retain their TPS, provided that an individual's TPS status is not withdrawn because of ineligibility.

DHS is further announcing it is automatically extending through March 24, 2020, the validity of TPS-related Employment Authorization Documents (EADs), Forms I-797, Notice of Action (Approval Notice), and Forms I-94 (Arrival/Departure Record) (collectively “TPS-Related Documentation”), as specified in this Notice, for beneficiaries under the TPS designation for Nepal, provided that the affected TPS beneficiaries remain otherwise individually eligible for TPS. The TPS designation for Honduras remains in effect through January 5, 2020. See 83 FR 26074 (June 5, 2018). This Notice also provides information explaining DHS's plans to issue subsequent notices that will describe the steps DHS will take to address the TPS status of beneficiaries under the TPS designations for Honduras and Nepal, if continued compliance with the order to stay proceedings during the pendency of the Ramos v. Nielsen appeal become necessary.

DATES: The TPS designations of Nepal and Honduras will remain in effect, as required by the order of the U.S. District Court for the Northern District of California adopting the parties' stipulation to stay proceedings in Bhattarai v. Nielsen, No. 19-cv-00731 (N.D. Cal. Mar. 12, 2019), pending final disposition of the Government's appeal of the preliminary injunction order in Ramos v. Nielsen enjoining implementation and enforcement of the determinations to terminate the TPS designations for Sudan, Nicaragua, Haiti, and El Salvador, or by other order of the court. DHS will not terminate TPS for Honduras or Nepal pending final disposition of the Ramos appeal, including through any additional appellate channels in which relief may be sought, or by other order of the court. Information on the status of the order to stay proceedings and the Ramos v. Nielsen appeal is available at http://uscis.gov/tps.

Further, DHS is automatically extending the validity of TPS-Related Documentation for those beneficiaries under the TPS designation for Nepal, as specified in this Notice. Those documents will remain in effect for nine months through March 24, 2020, provided the individual's TPS is not withdrawn under INA section 244(c)(3) or 8 CFR 244.14 because of ineligibility, and Nepal's TPS designation remains in effect.

In the event the preliminary injunction in Ramos v. Nielsen is reversed and that reversal becomes final, DHS will allow for a transition period, as described in the “Possible Future Action” section of this Notice.

FOR FURTHER INFORMATION CONTACT:

• You may contact Samantha Deshommes, Chief, Regulatory Coordination Division, Office of Policy and Strategy, U.S. Citizenship and Immigration Services, U.S. Department of Homeland Security, by mail at 20 Massachusetts Avenue NW, Washington, DC 20529-2060; or by phone at 800-375-5283.

• For further information on TPS, please visit the USCIS TPS web page at http://www.uscis.gov/tps. You can find specific information about this continuation of the TPS benefits for eligible individuals under the TPS designations for Nepal by selecting the “Nepal” page from the menu on the left side of the TPS web page.

• If you have additional questions about Temporary Protected Status, please visit uscis.gov/tools. Our online virtual assistant, Emma, can answer many of your questions and point you to additional information on our website. If you are unable to find your answers there, you may also call our U.S. Citizenship and Immigration Services (USCIS) Contact Center at 800-375-5283.

• Applicants seeking information about the status of their individual cases may check Case Status Online, available on the USCIS website at http://www.uscis.gov, or call the USCIS Contact Center at 800-375-5283 (TTY 800-767-1833).

• Further information will also be available at local USCIS offices upon publication of this Notice.

SUPPLEMENTARY INFORMATION:

Table of Abbreviations

BIA—Board of Immigration Appeals

CFR—Code of Federal Regulations

DHS—U.S. Department of Homeland Security

DOS—U.S. Department of State

EAD—Employment Authorization Document

FNC—Final Nonconfirmation

Form I-94—Arrival/Departure Record

FR—Federal Register

Government—U.S. Government

IJ—Immigration Judge

INA—Immigration and Nationality Act

IER—U.S. Department of Justice Civil Rights Division, Immigrant and Employee Rights Section

SAVE—USCIS Systematic Alien Verification for Entitlements Program

Secretary—Secretary of Homeland Security

TNC—Tentative Nonconfirmation

TPS—Temporary Protected Status

TTY—Text Telephone

USCIS—U.S. Citizenship and Immigration Services

Background on Temporary Protected Status (TPS)

• TPS is a temporary immigration status granted to eligible nationals of a country designated for TPS under the INA, or to eligible persons without nationality who last habitually resided in the designated country.

• During the TPS designation period, TPS beneficiaries are eligible to remain in the United States, may not be removed, and are authorized to obtain EADs so long as they continue to meet the requirements of TPS.

• TPS beneficiaries may also apply for and be granted travel authorization as a matter of discretion.

• The granting of TPS does not result in or lead to lawful permanent resident status.

• To qualify for TPS, beneficiaries must meet the eligibility standards at INA section 244(c)(1)-(2), 8 U.S.C. 1254a(c)(1)-(2).

• When the Secretary terminates a country's TPS designation, beneficiaries return to one of the following:

○ The same immigration status or category that they maintained before TPS, if any (unless that status or category has since expired or been terminated); or

○ Any other lawfully obtained immigration status or category they received while registered for TPS, as long as it is still valid on the date TPS terminates.

Purpose of This Action

Through this Federal Register Notice, DHS announces actions to ensure its compliance with the order of the U.S. District Court for the Northern District of California to stay proceedings in Bhattarai v. Nielsen, No. 19-cv-00731 (N.D. Cal. Mar. 12, 2019). The claims raised in Bhattarai v. Nielsen are similar to, and will be informed by the resolution, of the claims being litigated before the Ninth Circuit Court of Appeals in Ramos v. Nielsen, No. 18-16981 (9th Cir. filed Oct. 12, 2018). For that reason, DHS will not implement or enforce the decision to terminate TPS for Honduras or Nepal pending the resolution of the Ramos v. Nielsen appeal, or by other order of the court. Beneficiaries under the TPS designations for Nepal and Honduras will retain their TPS, provided that an individual's TPS status is not withdrawn under INA section 244(c)(3) because of ineligibility. See also 8 CFR 244.14.

DHS is further announcing it is automatically extending through March 24, 2020, the validity of TPS-related EADs, Forms I-797, Notice of Action (Approval Notice), and Forms I-94 (Arrival/Departure Record) (collectively “TPS-Related Documentation”), as specified in this Notice, for beneficiaries under the TPS designation for Nepal, provided that the affected TPS beneficiaries remain otherwise individually eligible for TPS. See INA section 244(c)(3). The validity dates of TPS-Related Documentation for beneficiaries under the TPS designation for Honduras is discussed below. This Notice also provides information explaining DHS's plans to issue subsequent notices that will describe the steps DHS will take to address the TPS status of beneficiaries under the TPS designations for Honduras and Nepal in order to continue its compliance with the order to stay proceedings should such compliance be necessary.

Automatic Extension of EADs

Through this Federal Register Notice, DHS automatically extends through March 24, 2020, the validity of EADs with the category codes “A-12” or “C-19” and one of the expiration dates shown below that have been issued under the TPS designation for Nepal:

06/24/2018

06/24/2019

Additionally, a beneficiary under the TPS designation for Nepal who applied for a new EAD but who has not yet received his or her new EAD is also covered by this automatic extension, provided that the EAD he or she possesses contains one of the expiration dates noted in the chart above. Such individuals may show one of these automatically extended EADs to employers to demonstrate they have employment authorization. Such individuals may also show employers this Federal Register Notice, which explains that their EADs have been extended through March 24, 2020. This Notice explains how TPS beneficiaries and their employers may determine which EADs are automatically extended and how this affects the Form I-9, Employment Eligibility Verification, E-Verify, and USCIS Systematic Alien Verification for Entitlements (SAVE) processes.

Automatic Extension of Forms I-94 (Arrival/Departure Record) and Forms I-797 (Notice of Action (Approval Notice))

In addition, through this Federal Register Notice, DHS automatically extends through March 24, 2020, the validity periods of the following Forms I-94 and Forms I-797, Notice of Action (Approval Notice) previously issued to eligible beneficiaries granted TPS under the designation for Nepal:

Country | Beginning date of validity: | End date of validity:
Nepal | Dec. 25, 2016 | June 24, 2018.
| June 25, 2018 | June 24, 2019.

However, the extension of this validity period applies only if the eligible TPS beneficiary properly filed for TPS re-registration during the most recent DHS-announced registration period for Nepal (May 22, 2018-July 23, 2018), the previous re-registration period (Oct. 26, 2016-Dec. 27, 2016), or has a re-registration application that remains pending. In addition, the extension does not apply if the TPS of any such individual has been finally withdrawn. This Notice does not extend the validity date of any TPS-related Form I-94 or Form I-797, Notice of Action (Approval Notice) issued to a TPS beneficiary that contains an end date not on the chart above where the individual has failed to file for TPS re-registration, or where his or her re-registration request has been finally denied.

Application Procedures

Current beneficiaries under the TPS designation for Nepal do not need to pay a fee or file any application, including the Application for Employment Authorization (Form I-765), to maintain their TPS benefits through March 24, 2020, if they have properly re-registered for TPS during the most recent DHS-announced registration period for their country, which ran from May 22, 2018 through July 23, 2018, or the previous re-registration period from October 26, 2016 through December 27, 2016. TPS beneficiaries who have failed to re-register properly for TPS during either of these re-registration periods may still file Form I-821 (Application for Temporary Protected Status) but must demonstrate “good cause” for failing to re-register on time, as required by law. See INA section 244(c)(3)(C) (TPS beneficiary's failure to register without good cause in form and manner specified by DHS is ground for TPS withdrawal); 8 CFR 244.17(b) and Instructions to Form I-821. Any eligible beneficiary under the TPS designation for Nepal who either does not possess an EAD that is automatically extended by this Notice, or wishes to apply for a new EAD may file Form I-765 with appropriate fee (or fee waiver request). If approved, USCIS will issue an EAD with a March 24, 2020 expiration date. Similarly, USCIS will issue an EAD with a March 24, 2020 expiration date for those with pending EAD applications that are ultimately approved.

Possible Future Action

If it becomes necessary to comply with statutory requirements for TPS re-registration during the pendency of the District Court's Order or any superseding court order concerning the beneficiaries under the TPS designations for Nepal and Honduras, DHS may announce re-registration procedures in a future Federal Register Notice. See section 244(c)(3)(C) of the INA; 8 CFR 244.17.

Following the conclusion of the appeal of the preliminary injunction in Ramos v. Nielsen, TPS will remain in effect for Honduras and Nepal for a minimum of the later of (a) 120 days from the issuance of any appellate mandate to the District Court, or (b) on the Secretary's previously-announced effective date for the termination of TPS designations for each individual country, as follows:

• Nepal—N/A; ¹

¹ Any 120-day transition period would end later than the Secretary's previously-announced effective date for the termination of TPS designation for Nepal (June 24, 2019).

• Honduras—January 5, 2020.

To the extent that a Federal Register Notice has automatically extended TPS-Related Documentation beyond the 120-day period, DHS reserves the right to issue a subsequent Federal Register Notice announcing an expiration date for the documentation that corresponds to the last day of the 120-day period. Should the Government move to vacate the stay in proceedings in light of an appellate decision affirming the preliminary injunction in Ramos v. Nielsen that suggests a basis on which to distinguish the determinations to terminate the TPS designations for Honduras and Nepal TPS from the TPS terminations at issue in Ramos v. Nielsen, TPS will remain in effect for Honduras and Nepal for at least 180 days following an order of the District Court vacating the stay in proceedings.

Effect on TPS-Related Documentation for Beneficiaries Under the TPS Designation for Honduras

If otherwise eligible, beneficiaries under the TPS designation for Honduras who either have been approved for re-registration or have pending TPS re-registration and EAD applications, either have or will receive TPS-Related Documentation that will remain in effect until January 5, 2020. DHS will issue a Federal Register Notice approximately 45 days before January 5, 2020, that will announce an automatic extension of TPS-related documentation for beneficiaries under the TPS designation for Honduras. The automatic extension announced in this Notice therefore does not apply to them.²

² See Termination of the Designation of Honduras for Temporary Protected Status, 83 FR 26074 (June 5, 2018).

Additional Notes

Nothing in this Notice affects DHS's ongoing authority to determine on a case-by-case basis whether TPS beneficiaries continue to meet the individual eligibility requirements for TPS described in section 244(c) of the INA and the implementing regulations in part 244 of Title 8 of the Code of Federal Regulations.

Notice of Compliance With Court Order To Stay Proceedings and Agreement To Stay the Determinations Terminate the TPS Designations for Nepal and Honduras

As required by the order of the U.S. District Court for the Northern District of California to stay proceedings in Bhattarai v. Nielsen, No. 19-cv-00731 (N.D. Cal. Mar. 12, 2019), DHS will not implement or enforce the previously-announced determinations to terminate the existing TPS designations for Nepal and Honduras ³ unless and until the District Court's order in Ramos v. Nielsen enjoining implementation and enforcement of the determinations to terminate the TPS designations for Sudan, Nicaragua, Haiti, and El Salvador is reversed and that reversal becomes final for some or all of the affected countries, or by other order of the court.

³ See Termination of the Designation of Nepal for Temporary Protected Status, 83 FR 23705 (May 22, 2018); Termination of the Designation of Honduras for Temporary Protected Status, 83 FR 26074 (June 5, 2018).

In further compliance with the Order, I am publishing this Federal Register Notice automatically extending the validity of the TPS-Related Documentation specified above in the Supplementary Information section of this Notice for nine months through March 24, 2020, for eligible beneficiaries under the TPS designation for Nepal.

Any termination of TPS-Related Documentation for beneficiaries under the TPS designations for Nepal and Honduras will go into effect on the later of: (a) 120 days following the issuance of any mandate to the District Court, or (b) on the Secretary's previously-announced effective date for the termination of TPS designations for each individual country. To the extent that a subsequent Federal Register Notice has automatically extended TPS-Related Documentation beyond the 120-day period, DHS reserves the right to issue another Federal Register Notice invalidating the documents at the end of the 120-day period. Should the Government move to vacate the stay in proceedings in light of an appellate decision affirming the preliminary injunction in Ramos v. Nielsen that suggests a basis on which to distinguish the Honduras and Nepal TPS terminations from the TPS terminations at issue in Ramos v. Nielsen, TPS will remain in effect for Honduras and Nepal for at least 180 days following an order of the court vacating the stay in proceedings.

DHS will continue to issue Federal Register Notices that will automatically extend by nine months TPS-Related Documentation for all affected beneficiaries under the TPS designations for Nepal and Honduras, so long as the order to stay proceedings remains in place, or by other order of the court, and will continue its commitment to a transition period, as described above.

All TPS beneficiaries must continue to maintain their TPS eligibility by meeting the requirements for TPS in INA section 244(c) and 8 CFR part 244. DHS will continue to adjudicate any pending TPS re-registration and pending late initial applications for affected beneficiaries under the TPS designations for Nepal and Honduras, and continue to make appropriate individual TPS withdrawal decisions in accordance with existing procedures if an individual no longer maintains TPS eligibility. DHS may continue to announce periodic re-registration procedures for eligible TPS beneficiaries in accordance with the INA and DHS regulations. Should the order to stay proceedings remain in effect, DHS will take appropriate steps to continue its compliance with the order, and all statutory requirements.

Kevin K. McAleenan,
Acting Secretary.

Approved Forms To Demonstrate Continuation of Lawful Status and TPS-Related Employment Authorization

• This Federal Register Notice May 10, 2019

○ Through operation of this Federal Register Notice, certain EADs of affected beneficiaries under the TPS designation for Nepal are automatically extended through March 24, 2020.

○ A beneficiary granted TPS under the designation for Nepal may show his or her specified EAD to his or her employer to demonstrate identity and continued TPS-related employment eligibility for purposes of meeting the Employment Eligibility Verification (Form I-9) requirements. A beneficiary granted TPS under the designation for Nepal may also wish to show an employer this Federal Register Notice, which explains that his or her EAD has been automatically extended.

○ Alternatively, such a TPS beneficiary may choose to show other acceptable documents that are evidence of identity and employment eligibility as described in the Instructions to Employment Eligibility Verification (Form I-9).

○ Finally, such a TPS beneficiary may show a copy of this Notice, along with his or her specified EAD, Form I-94, or Form I-797, Notice of Action (Approval Notice), as evidence of his or her lawful status, to law enforcement, federal, state, and local government agencies, and private entities.

• Employment Authorization Document (EAD)

Am I eligible to receive an automatic extension of my current EAD through March 24, 2020, using this Federal Register notice?

Yes. Provided that you currently have a TPS-related EAD for Nepal with the specified expiration dates described below, this Federal Register Notice automatically extends your EAD through March 24, 2020, if you:

• Are a national of Nepal (or an alien having no nationality who last habitually resided in Nepal) who has TPS, and your EAD contains a category code of A-12 or C-19 and one of the expiration dates shown below:

06/24/2018

06/24/2019

When hired, what documentation may I show to my employer as evidence of employment authorization and identity when completing Employment Eligibility Verification (Form I-9)?

You can find the Lists of Acceptable Documents on the third page of Form I-9 as well as the “Acceptable Documents” web page at https://www.uscis.gov/i-9-central/acceptable-documents. Employers must complete Form I-9 to verify the identity and employment authorization of all new employees. Within three days of hire, employees must present acceptable documents to their employers as evidence of identity and employment authorization to satisfy Form I-9 requirements.

You may present any document from List A (which provides evidence of both identity and employment authorization) or one document from List B (which provides evidence of your identity) together with one document from List C (which is evidence of employment authorization), or you may present an acceptable receipt for List A, List B, or List C documents as described in the Form I-9 Instructions. Employers may not reject a document based on a future expiration date. You can find additional information about Form I-9 on the I-9 Central web page at http://www.uscis.gov/I-9Central.

An EAD is an acceptable document under List A.

If your EAD has category code of A-12 or C-19 and an expiration date from the column below, you may show your expired EAD along with this Federal Register Notice to complete Form I-9: | Enter this date in Section 1 of Form I-9: | Your employer must reverify your employment authorization by:
June 24, 2018 | March 24, 2020 | March 25, 2020.
June 24, 2019 | March 24, 2020 | March 25, 2020.

If you want to use your EAD with one of the specified expiration dates above, and that date has passed, then you may also provide your employer with a copy of this Federal Register Notice, which explains that your EAD has been automatically extended for a temporary period of time, through March 24, 2020 (if you are a beneficiary under the TPS designation for Nepal).

What documentation may I present to my employer for Employment Eligibility Verification (Form I-9) if I am already employed but my current TPS-related EAD is set to expire?

Even though your EAD has been automatically extended, your employer is required by law to ask you about your continued employment authorization, and you will need to present your employer with evidence that you are still authorized to work. Once presented, you may correct your employment authorization expiration date in Section 1 and your employer should correct the EAD expiration date in Section 2 of Form I-9. See the subsection titled, “What corrections should my current employer and I make to Employment Eligibility Verification (Form I-9) if my employment authorization has been automatically extended?” for further information. You may show this Federal Register Notice to your employer to explain what to do for Form I-9 and to show that your EAD has been automatically extended through March 24, 2020 (if you are a beneficiary under the TPS designation for Nepal). Your employer may need to re-inspect your automatically extended EAD to check the expiration date and Category code if your employer did not keep a copy of your EAD when you initially presented it.

The last day of the automatic EAD extension for eligible beneficiaries under the TPS designation for Nepal is March 24, 2020. Before you start work on March 25, 2020, your employer is required by law to reverify your employment authorization in Section 3 of Form I-9. At that time, you must present any document from List A or any document from List C on Form I-9 Lists of Acceptable Documents, or an acceptable List A or List C receipt described in the Form I-9 Instructions to reverify employment authorization. If your original Form I-9 was a previous version, your employer must complete Section 3 of the current version of Form I-9, and attach it to your previously completed Form I-9. Your employer can check the I-9 Central web page at http://www.uscis.gov/I-9Central for the most current version of Form I-9.

Your employer may not specify which List A or List C document you must present and cannot reject an acceptable receipt.

Can I seek a new EAD?

You do not need to apply for a new EAD in order to benefit from this automatic extension. However, if you are a beneficiary under the TPS designation for Nepal and want to obtain a new EAD valid through March 24, 2020, you must file an Application for Employment Authorization (Form I-765) and pay the Form I-765 fee (or request a fee waiver). If you do not want a new EAD, you do not have to file Form I-765 or pay the Form I-765 fee. If you do not want to request a new EAD now, you may also file Form I-765 at a later date and pay the fee (or request a fee waiver), provided that you still have TPS or a pending TPS application. You may file the application for a new EAD either before or after your current EAD has expired.

If you are unable to pay the application fee and/or biometric services fee, you may complete a Request for Fee Waiver (Form I-912) or submit a personal letter requesting a fee waiver with satisfactory supporting documentation. For more information on the application forms and fees for TPS, please visit the USCIS TPS web page at http://www.uscis.gov/tps. Fees for the Form I-821, the Form I-765, and biometric services are also described in 8 CFR 103.7(b)(1)(i).

If you have a Form I-821 and/or Form I-765 that was still pending as of June 24, 2019, then you should not file either application again. If your pending TPS application under the TPS designation for Nepal is approved, you will be granted TPS through March 24, 2020. Similarly, if you have a pending TPS-related application for an EAD that is approved, it will be valid through the same date.

Can my employer require that I provide any other documentation to prove my status, such as proof of my citizenship from Nepal?

No. When completing Form I-9, including reverifying employment authorization, employers must accept any documentation that appears on the Form I-9 “Lists of Acceptable Documents” that reasonably appears to be genuine and that relates to you, or an acceptable List A, List B, or List C receipt. Employers need not reverify List B identity documents. Employers may not request documentation that does not appear on the “Lists of Acceptable Documents.” Therefore, employers may not request proof of citizenship or proof of re-registration for TPS when completing Form I-9 for new hires or reverifying the employment authorization of current employees. If presented with EADs that have been automatically extended, employers should accept such documents as a valid List A document so long as the EAD reasonably appears to be genuine and relates to the employee. Refer to the Note to Employees section of this Federal Register Notice for important information about your rights if your employer rejects lawful documentation, requires additional documentation, or otherwise discriminates against you based on your citizenship or immigration status, or your national origin.

How do my employer and I complete Employment Eligibility Verification (Form I-9) using my automatically extended employment authorization for a new job?

If you are a beneficiary under the TPS designation for Nepal, when using an automatically extended EAD to complete Form I-9 for a new job on or before March 24, 2020, you and your employer should do the following:

1. For Section 1, you should:

a. Check “An alien authorized to work until” and enter March 24, 2020, as the “expiration date”; and

b. Enter your Alien Number/USCIS number or A-Number where indicated (your EAD or other document from DHS will have your USCIS number or A-Number printed on it; the USCIS number is the same as your A-Number without the A prefix).

2. For Section 2, your employer should:

a. Determine if the EAD is automatically extended:

An employee's EAD has been automatically extended if it contains a category code of A-12 or C-19 and an expiration date shown below:
06/24/2018.
06/24/2019.

If it has been automatically extended, the employer should:

b. Write in the document title;

c. Enter the issuing authority;

d. Provide the document number; and

e. Write March 24, 2020, as the expiration date.

Before the start of work on March 25, 2020, employers are required by law to reverify the employee's employment authorization in Section 3 of Form I-9. If your original Form I-9 was a previous version, your employer must complete Section 3 of the current version of Form I-9 and attach it to your previously completed Form I-9. Your employer can check the I-9 Central web page at http://www.uscis.gov/I-9Central for the most current version of Form I-9.

What corrections should my current employer and I make to Employment Eligibility Verification (Form I-9) if my employment authorization has been automatically extended?

If you presented a TPS-related EAD that was valid when you first started your job and your EAD has now been automatically extended because you are a beneficiary under the TPS designation for Nepal, your employer may need to re-inspect your current EAD if they do not have a copy of the EAD on file. You may, and your employer should, correct your previously completed Form I-9 as follows:

1. For Section 1, you may:

a. Draw a line through the expiration date in Section 1;

b. Write March 24, 2020, above the previous date; and

c. Initial and date the correction in the margin of Section 1.

2. For Section 2, employers should:

a. Determine if the EAD is automatically extended:

An employee's EAD has been automatically extended if it contains a category code of A-12 or C-19 and an expiration date shown below:
06/24/2018.
06/24/2019.

If it has been automatically extended:

b. Draw a line through the expiration date written in Section 2;

c. Write March 24, 2020, above the previous date; and

d. Initial and date the correction in the Additional Information field in Section 2.

Note: This is not considered a reverification. Employers do not need to complete Section 3 until either this Notice's automatic extension of EADs has ended or the employee presents a new document to show continued employment authorization, whichever is sooner. By March 25, 2020, when the employee's automatically extended EAD has expired, employers are required by law to reverify the employee's employment authorization in Section 3. If your original Form I-9 was a previous version, your employer must complete Section 3 of the current version of Form I-9 and attach it to your previously completed Form I-9. Your employer can check the I-9 Central web page at http://www.uscis.gov/I-9Central for the most current version of Form I-9.

If I am an employer enrolled in E-Verify, how do I verify a new employee whose EAD has been automatically extended?

Employers may create a case in E-Verify for these employees by providing the employee's Alien Registration number (A#) or USCIS number as the document number on Form I-9 in the document number field in E-Verify.

If I am an employer enrolled in E-Verify, what do I do when I receive a “Work Authorization Documents Expiration” alert for an automatically extended EAD?

If you have employees who provided a TPS-related EAD with an expiration date that has been automatically extended by this Notice, you should dismiss the “Work Authorization Documents Expiring” case alert. Before this employee starts to work on March 25, 2020, you must reverify his or her employment authorization in Section 3 of Form I-9. Employers should not use E-Verify for reverification.

Note to All Employers

Employers are reminded that the laws requiring proper employment eligibility verification and prohibiting unfair immigration-related employment practices remain in full force. This Federal Register Notice does not supersede or in any way limit applicable employment verification rules and policy guidance, including those rules setting forth reverification requirements. For general questions about the employment eligibility verification process, employers may call USCIS at 888-464-4218 (TTY 877-875-6028) or email USCIS at I-9Central@dhs.gov. USCIS accepts calls and emails in English and many other languages. For questions about avoiding discrimination during the employment eligibility verification process (Form I-9 and E-Verify), employers may call the U.S. Department of Justice's Civil Rights Division, Immigrant and Employee Rights Section (IER) (formerly the Office of Special Counsel for Immigration-Related Unfair Employment Practices) Employer Hotline at 800-255-8155 (TTY 800-237-2515). IER offers language interpretation in numerous languages. Employers may also email IER at IER@usdoj.gov.

Note to Employees

For general questions about the employment eligibility verification process, employees may call USCIS at 888-897-7781 (TTY 877-875-6028) or email USCIS at I-9Central@dhs.gov. USCIS accepts calls in English, Spanish, and many other languages. Employees or applicants may also call the IER Worker Hotline at 800-255-7688 (TTY 800-237-2515) for information regarding employment discrimination based upon citizenship, immigration status, or national origin, including discrimination related to Employment Eligibility Verification (Form I-9) and E-Verify. The IER Worker Hotline provides language interpretation in numerous languages.

To comply with the law, employers must accept any document or combination of documents from the Lists of Acceptable Documents if the documentation reasonably appears to be genuine and to relate to the employee, or an acceptable List A, List B, or List C receipt as described in the Employment Eligibility Verification (Form I-9) Instructions. Employers may not require extra or additional documentation beyond what is required for Form I-9 completion. Further, employers participating in E-Verify who receive an E-Verify case result of “Tentative Nonconfirmation” (TNC) must promptly inform employees of the TNC and give such employees an opportunity to contest the TNC. A TNC case result means that the information entered into E-Verify from an employee's Form I-9 differs from records available to DHS.

Employers may not terminate, suspend, delay training, withhold pay, lower pay, or take any adverse action against an employee because of the TNC while the case is still pending with E-Verify. A Final Nonconfirmation (FNC) case result is received when E-Verify cannot verify an employee's employment eligibility. An employer may terminate employment based on a case result of FNC. Work-authorized employees who receive an FNC may call USCIS for assistance at 888-897-7781 (TTY 877-875-6028). For more information about E-Verify-related discrimination or to report an employer for discrimination in the E-Verify process based on citizenship, immigration status, or national origin, contact IER's Worker Hotline at 800-255-7688 (TTY 800-237-2515). Additional information about proper nondiscriminatory Form I-9 and E-Verify procedures is available on the IER website at https://www.justice.gov/ier and on the USCIS and E-Verify websites at https://www.uscis.gov/i-9-central and https://www.e-verify.gov.

Note Regarding Federal, State, and Local Government Agencies (Such as Departments of Motor Vehicles)

While Federal Government agencies must follow the guidelines laid out by the Federal Government, state and local government agencies establish their own rules and guidelines when granting certain benefits. Each state may have different laws, requirements, and determinations about what documents you need to provide to prove eligibility for certain benefits. Whether you are applying for a Federal, state, or local government benefit, you may need to provide the government agency with documents that show you are a TPS beneficiary, show you are authorized to work based on TPS or other status, and/or that may be used by DHS to determine whether you have TPS or other immigration status. Examples of such documents are:

(1) Your current EAD;

(2) Your automatically extended EAD with a copy of this Federal Register Notice, providing an automatic extension of your currently expired or expiring EAD;

(3) A copy of your Form I-94, (Arrival/Departure Record), or Form I-797, Notice of Action (Approval Notice), that has been automatically extended by this Notice and a copy of this Notice;

(4) Any other relevant DHS-issued document that indicates your immigration status or authorization to be in the United States, or that may be used by DHS to determine whether you have such status or authorization to remain in the United States.

Check with the government agency regarding which document(s) the agency will accept.

Some benefit-granting agencies use the SAVE program to confirm the current immigration status of applicants for public benefits. While SAVE can verify when an individual has TPS, each agency's procedures govern whether they will accept an automatically extended TPS-related document. You should present the agency with a copy of this Federal Register Notice showing the extension of TPS-related documentation in addition to your recent TPS-related document with your alien or I-94 number. You should explain that SAVE will be able to verify the continuation of your TPS using this information. You should ask the agency to initiate a SAVE query with your information and follow through with additional verification steps, if necessary, to get a final SAVE response showing the TPS. You can also ask the agency to look for SAVE notices or contact SAVE if they have any questions about your immigration status or automatic extension of TPS-related documentation. In most cases, SAVE provides an automated electronic response to benefit-granting agencies within seconds, but, occasionally, verification can be delayed. You can check the status of your SAVE verification by using CaseCheck at the following link: https://save.uscis.gov/casecheck/, then by clicking the “Check Your Case” button. CaseCheck is a free service that lets you follow the progress of your SAVE verification using your date of birth and one immigration identifier number. If an agency has denied your application based solely or in part on a SAVE response, the agency must offer you the opportunity to appeal the decision in accordance with the agency's procedures. If the agency has received and acted upon or will act upon a SAVE verification and you do not believe the response is correct, you may make an InfoPass appointment for an in-person interview at a local USCIS office. Detailed information on how to make corrections, make an appointment, or submit a written request to correct records under the Freedom of Information Act can be found on the SAVE website at http://www.uscis.gov/save.

[FR Doc. 2019-09635 Filed 5-9-19; 8:45 am]

BILLING CODE 9111-97-P